DEPARTMENT OF HEALTH AND HUMAN SERVICES

Administration for Children and Families

Proposed Information Collection Activity; Next Steps for Tribal TANF Research and Data (New Collection)

AGENCY: Office of Planning, Research, and Evaluation, Administration for Children and Families, U.S. Department of Health and Human Services.

ACTION: Request for public comments.

SUMMARY: This proposed information collection will use multiple methods to gather information from Tribal Leaders and Tribal Temporary Assistance for Needy Families (TANF) leaders, staff, and participants. The purpose of these activities is to gather systematic information directly from Tribal TANF program leaders, staff, and participants about (1) their challenges, successes, and support needs related to Tribal TANF data reporting requirements; and (2) their research and evidence needs related to Tribal TANF program operations. Foremost, ACF will use this information to inform future changes to Tribal TANF data reporting requirements and revisions to accompanying guidance (for example, to improve clarity and address inconsistencies in data definitions), as well as improvements to data-related technical assistance provided to Tribal TANF grantees.

DATES: Comments due May 4, 2026.

ADDRESSES: In compliance with the requirements of the Paperwork Reduction Act of 1995, the Administration for Children and Families (ACF) is soliciting public comment on the specific aspects of the information collection described above. You can obtain copies of the proposed collection of information and submit comments by emailing OPREinfocollection@acf.hhs.gov. Identify all requests by the title of the information collection.

SUPPLEMENTARY INFORMATION:

Description: This information collection is designed to gather systematic information directly from Tribal TANF program leaders, staff, and participants about (1) their challenges, successes, and support needs related to Tribal TANF data reporting requirements; and (2) their research and evidence needs related to Tribal TANF program operations. Foremost, ACF will use this information to inform future changes to Tribal TANF data reporting requirements and revisions to accompanying guidance (for example, to improve clarity and address inconsistencies in data definitions), as well as improvements to data-related technical assistance provided to Tribal TANF grantees. The information collection will use talking circles, a survey, individual interviews, and direct observations. The goal is to thoughtfully mitigate a long-standing burdensome requirement into a more efficient and sustainable data collection process that yields reliable and higher-quality information actionable to both Tribal TANF programs, to inform program operations, and ACF in monitoring program compliance and performance. Additionally, the information will be used to inform future OPRE-sponsored research activities so that they yield information that enables Tribal TANF programs to engage in evidence-informed decision-making around program implementation to ultimately serve their communities better and improve participant outcomes. Respondents: Tribal leaders, Tribal TANF program leaders, Tribal TANF staff, past and current Tribal TANF participants.

Annual Burden Estimates

Data collection efforts are expected to take place over about 2.5 years. Annual burden estimates have been calculated for a 3-year request to account for potential delays.

Instrument | Number of respondents (total over request period) | Number of responses per respondent (total over request period) | Average burden per response (in hours) | Total burden (in hours) | Annual burden (in hours)
Instrument 1: Talking Circle Facilitator's Guide—Knowledge Development | 32 | 1 | 2 | 64 | 21
Instrument 2: Talking Circle Facilitator's Guide—Data Needs Assessment | 48 | 1 | 2 | 96 | 32
Instrument 3: Tribal TANF Data Needs Assessment Survey | 76 | 1 | 0.5 | 38 | 13
Instrument 4: Knowledge Sharing Visit Interview Protocol—Tribal TANF Program Leaders | 10 | 1 | 1.5 | 15 | 5
Instrument 5: Knowledge Sharing Visit Interview Protocol—Data Staff | 10 | 1 | 1.5 | 15 | 5
Instrument 6: Knowledge Sharing Visit Data Observation (Learning Exchange) Worksheet | 10 | 1 | 1.5 | 15 | 5
Instrument 7: Knowledge Sharing Visit Talking Circle Facilitator's Guide—Staff | 40 | 1 | 2 | 80 | 27
Instrument 8: Knowledge Sharing Visit Talking Circle Facilitator's Guide -Participants | 40 | 1 | 2 | 80 | 27
Estimated Total Annual Burden Hours: |  |  |  |  | 135

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Sec. 412 of the Social Security Act [42 U.S.C. 1310], as amended by P.L. 104-193.

Mary C. Jones,
ACF/OPRE Certifying Officer.

[FR Doc. 2026-04204 Filed 3-2-26; 8:45 am]

BILLING CODE 4184-07-P